DEPARTMENT OF THE INTERIOR

Bureau of Land Management

[A2407-014-004-065516; #O2412-014-004-047181.1]

Notice of Realty Action: Recreation and Public Purposes (R&PP) Act Classification, Lease, and Subsequent Conveyance of Public Lands; Clark County, NV

AGENCY: Bureau of Land Management, Interior.

ACTION: Notice of realty action.

SUMMARY: The Bureau of Land Management (BLM), Las Vegas Field Office, has examined and found suitable for classification, to lease and subsequently conveyance, approximately 121.95 acres of public land under the provisions of the R&PP Act, as amended. The City of Las Vegas proposes to develop the land into a public park to address the growing recreational needs in the northwestern part of the Las Vegas Valley.

DATES: Interested parties may submit written comments regarding the classification, lease, and subsequent conveyance of the land. To ensure your comments are considered, BLM must receive your comments on or before April 16, 2026. The BLM will publish this notice of reality action (NORA) once a week for 3 consecutive weeks in the Las Vegas Review-Journal newspaper.

ADDRESSES: Mail written comments to the BLM Las Vegas Field Office, Assistant Field Manager, 4701 North Torrey Pines Drive, Las Vegas, NV 89130.

FOR FURTHER INFORMATION CONTACT: Brad Gallimore, Realty Specialist, by email: BLM_NV_LVFO_LandTenureTeam@blm.gov, or by telephone: (702) 515-5017. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The parcel is located on the northwest corner of Log Cabin Way and El Capitan Way in the northwest portion of Las Vegas, bounded on the west by the future extension of Skye Canyon Park Drive (Fort Apache Road alignment) and the north by future Moccasin Road in northwest Las Vegas, Nevada. The land is legally described as:

Mount Diablo Meridian, Nevada

T. 19 S., R. 60 E.,

Sec. 5, lot 5 and lots 8 thru 15, excepting those portions within the utility corridor under Public Law 113-291—Dec. 19, 2014 128STAT. 3863 (4) (A), lots 5, and 9 thru 11.

The area described contains 121.95 acres, according to the official plats of the surveys on file with the BLM.

Proposed development of the subject land includes the addition of sports fields, trails, public restrooms, associated parking, utilities, and other facilities. Additional information pertaining to this project is contained in case file N-99637, which may be reviewed at the BLM Las Vegas Field Office at the address above in the ADDRESSES section.

The lease and subsequent conveyance are consistent with the BLM Las Vegas Resource Management Plan, dated October 5, 1998. The proposed land use is in conformance with the 2004 Las Vegas Valley Disposal Boundary Final Environmental Impact Statement and Record of Decision as well as the 2017 Environmental Assessment (EA) and Decision Record for In-Valley Multi-Action Analysis. The proposed R&PP lease and subsequent conveyance was analyzed in the Las Vegas In-Valley Area Multi-Action Analysis EA (DOI-BLM-NV-S010-2016-0054-EA), which addressed all identified resource concerns. In addition, a determination of National Environmental Policy Act adequacy (DNA) (DOI-BLM-NV-S010-2023-0032-DNA) was completed for the lease.

The lease and subsequent conveyance, when issued, will be subject to the provisions of the R&PP Act, the applicable regulations of the Secretary of the Interior, and the following terms, conditions, and reservations to the United States:

1. A right-of-way thereon for ditches or canals constructed by the authority of the United States, Act of August 30, 1890 (43 U.S.C. 945); and

2. All minerals, together with the right to prospect for, mine, and remove such deposits for the same under applicable law and such regulations as the Secretary of the Interior may prescribe; and

3. Terms, conditions, or reservations required by law, including but not limited to those required by 43 CFR 2741.4, and as deemed necessary or appropriate by the authorized officer; and

4. An appropriate indemnification clause protecting the United States from claims arising out of the lessee's or patentee's use, occupancy, or operations on the leased or patented lands; and

5. Subject to valid existing rights.

Upon publication of this notice in the Federal Register, the land described above will be segregated from all other forms of appropriation under the public land laws, including the general mining laws, except for lease and conveyance under the R&PP Act, leasing under the mineral leasing laws, and disposals under the mineral material disposal laws.

This notice opens the opportunity for the public to protest and/or appeal the classification and proposed realty action decision prior to the BLM issuing a lease and subsequent conveyance of the subject public lands, as proposed.

Classification Comments: Interested parties may submit written comments on the suitability of the land as a park in the City of Las Vegas. Comments on the classification are restricted to whether the land is physically suited for the proposal, whether the use will maximize the future use or uses of the land, whether the use is consistent with local planning and zoning, and whether the use is consistent with State and Federal programs.

Proposed Realty Action Comments: Interested parties may also submit written comments regarding the specific use proposed in the application and plan of development, whether the BLM followed proper administrative procedures in reaching the decision, or any other factor not directly related to the suitability of the land for a public park.

Submit comments to the address in the ADDRESSES section by the date in the DATES section of this notice. Before including your address, phone number, email, or other personal identifying information in your comment, be advised that the entire comment, including personal identifying information, may be made publicly available at any time. While you can ask us in your comment to withhold your personal identifying information from public review, we cannot guarantee that we will be able to do so. Only written comments submitted to the Assistant Field Manager, BLM Las Vegas Field Office, will be considered properly filed. Any adverse comments on the classification will be reviewed as protests by the BLM Nevada State Director, who may sustain, vacate, or modify this realty action.

In the absence of any adverse comments, the decision will become effective on May 1, 2026.

(Authority: 43 CFR 2741.5)

Bruce L. Sillitoe,
Field Manager, Las Vegas Field Office.

[FR Doc. 2026-04022 Filed 2-27-26; 8:45 am]

BILLING CODE 4331-21-P